DEPARTMENT OF VETERANS AFFAIRS

Advisory Committee on Cemeteries and Memorials, Notice of Meeting

The Department of Veterans Affairs (VA) gives notice under the Federal Advisory Committee Act that a meeting of the Advisory Committee on Cemeteries and Memorials will be held on October 30-October 31, 2018. The meeting sessions will take place at the Denver Regional Benefit Office, 155 Van Gordon Street, Lakewood, CO 80228. Sessions are open to the public, except when the Committee is conducting tours of VA facilities, participating in offsite events, participating in workgroup sessions, and conducting official Administrative business. Tours of the VA facilities are closed, to protect Veterans' privacy and personal information.

The purpose of the Committee is to advise the Secretary of Veterans Affairs on the administration of national cemeteries, soldiers' lots and plots, the selection of new national cemetery sites, the erection of appropriate memorials, and the adequacy of Federal burial benefits. The Committee will make recommendations to the Secretary regarding such activities.

On the morning of Tuesday, October 30, 2018, the Committee will convene with an open session at the Denver Regional Benefit Office from 8:30 a.m.-11:30 a.m., Mountain Time. The dial-in number is 1-800-767-1750, access code 02668#. The agenda will include introductions of new members, an overview of Committee activities, and status updates on the 2017 Recommendation for Digital Memorialization. During the afternoon session, from 11:30 a.m. to 4:00 p.m., Mountain Time, the Committee will convene in a closed session to the Public, as it conducts a site visit at the Fort Logan National Cemetery and the student library exhibit at the University of Denver. The exhibit displays stories and artifacts of Veterans interred at Fort Logan National Cemetery.

On the morning of Wednesday, October 31, 2018, the Committee will convene with an open session at the Denver Regional Benefit Office from 8:30 a.m.-10:30 a.m., Mountain Time. The dial-in number is the same. The agenda will include status updates for the National Cemetery Scheduling Office and the Emblems of Belief Regulation; and discussions on any new charges or recommendations. In the afternoon session, 10:30 a.m.-4 p.m., Mountain Time, the Committee convene in a closed session to the Public, as it visits the Pikes Peak National Cemetery to review operations at a new cemetery for the rural Veterans. Under 5 U.S.C. 552b(c) under (9)(B), the meeting is closed because it would reveal information the disclosure of which would, “in the case of an agency, be likely to significantly frustrate implementation of a proposed agency action.” Any precipitous release of those discussions through an open session will frustrate implementation and potentially our Veterans who we consider our greatest customer/benefactor of the commission.

Any member of the public wishing to attend the meeting should contact Ms. Christine Hamilton, Designated Federal Officer, at (202) 461-5681. The Committee will also accept written comments. Comments may be transmitted electronically to the Committee at Christine.hamilton1@va.gov or mailed to the National Cemetery Administration (40A1), 810 Vermont Avenue NW, Room 400, Washington, DC 20420. In the public's communications with the Committee, the writers must identify themselves and state the organizations, associations, or persons they represent.

Dated: October 15, 2018.
Jelessa M. Burney,
Federal Advisory Committee Management Officer.

[FR Doc. 2018-22743 Filed 10-18-18; 8:45 am]

BILLING CODE P